DEPARTMENT OF THE INTERIOR

National Park Service

Draft General Management Plan and Environmental Impact Statement, Flight 93 National Memorial, Pennsylvania

AGENCY: National Park Service, Department of the Interior.

ACTION: Notice of availability.

SUMMARY: Pursuant to section 102(2)(C) of the National Environmental Policy Act of 1969 (Pub. L. 91-190, as amended), the National Park Service announces the availability of the Draft General Management Plan and Environmental Impact Statement (Draft GMP/EIS) for Flight 93 National Memorial, in Somerset County, Pennsylvania. Consistent with National Park Service laws, regulations, and policies, and the mission of Flight 93 National Memorial, the Draft GMP/EIS describes and analyzes two alternatives to guide the management of the national memorial over the next 15 to 20 years. The alternatives incorporate various management prescriptions to ensure protection and enjoyment of the park's resources. Alternative 1 is a no action alternative. Alternative 2 is the National Park Service's preferred alternative. Alternative 2 is based upon the selected design from the Flight 93 National Memorial International Design Competition. The Draft GMP/EIS evaluates potential environmental consequences of implementing the alternatives. Impact topics include cultural and natural resources, transportation, and the socioeconomic environment. This notice also announces that a public meeting will be held to solicit comments on the Draft GMP/EIS during the public review period.

DATES: The Draft GMP/EIS will be available for public review until August 15, 2006. Comments on the Draft GMP/EIS must be received at one of the addresses below during the public review period. The National Park Service will hold a public meeting to solicit comments during the public review period. The public meeting will be held on Thursday, July 20, 2006, at the Shanksville-Stonycreek School in Shanksville, Pennsylvania, from 7 to 9 p.m.

ADDRESSES: Comments on the Draft GMP/EIS may be submitted on the Internet at: http://www.flight93memorialproject.org. Comments may also be mailed to: Superintendent, Flight 93 National Memorial, 109 W. Main Street, Suite 104, Somerset, PA 15501. It is the practice of the NPS to make all comments, including names and addresses of respondents who provide that information, available for public review following the conclusion of the NEPA process. Individuals may request that the NPS withhold their name and/or address from public disclosure. If you wish to do this, you must state this prominently at the beginning of your comments. NPS will honor such requests to the extent allowable by law, but you should be aware that NPS may still be required to disclose your name and address pursuant to the Freedom of Information Act.

FOR FURTHER INFORMATION CONTACT: The Draft GMP/EIS is available on the Internet at http://www.flight93memorialproject.org. Copies are available upon request by writing to: Jeff Reinbold, Flight 93 National Memorial, 109 W. Main Street, Suite 104, Somerset, PA 15501. The Draft GMP/EIS is also at the Flight 93 National Memorial project office at the same address, during regular business hours.

SUPPLEMENTARY INFORMATION: The Flight 93 National Memorial Act (Pub. L. 107-226) was enacted on September 24, 2002. The Act authorized “a national memorial to commemorate the passengers and crew of Flight 93 who, on September 11, 2001, courageously gave their lives thereby thwarting a planned attack on our Nation's Capital. * * *” This legislation created the Flight 93 National Memorial and specifically designated the crash site of Flight 93, located in Stonycreek Township, Somerset County, Pennsylvania, as the site to honor the passengers and crew of Flight 93. The Secretary of the Interior is authorized by the Act to administer the Memorial as a unit of the National Park System.

The Act created the Flight 93 Advisory Commission and tasked it with: (1) Advising the Secretary on the boundary of the memorial site, (2) submitting to the Secretary a report containing recommendations for the planning, design, construction, and long-term management of a permanent memorial at the crash site by September 24, 2005; and (3) advising the Secretary in the development of a management plan for the site.

The Commission recommended to the Secretary a boundary for the memorial on July 30, 2004 and the Secretary approved the recommendations on January 14, 2005. The boundary was published in the Federal Register in March 2005. The boundary includes 1,355 acres that comprise the crash site, the areas where human remains were found, the debris field, and lands necessary for viewing and accessing the national memorial. Approximately 907 additional acres comprise the perimeter viewshed and would ideally remain in private ownership and be protected through the acquisition of conservation or scenic easements by partners or other governmental agencies.

The Partners agreed that an international competition was the most democratic, inclusive, and transparent way to generate designs for a permanent memorial. The competition began on September 11, 2004 and more than 1,000 design professionals and members of the public submitted design concepts. Five final designs were selected by a jury of professionals, family members and local leaders after extensive public comment and review. The five final designs were refined and after public review and comment, a second jury selected the design that best fulfilled the mission of the national memorial. The selected design was announced to the public on September 7, 2005 and is the basis of the preferred alternative in the Draft GMP/EIS.

Alternative 2, the Preferred Design Alternative, would transform the reclaimed mining site where the plane crashed into a designed memorial landscape. The memorial landscape would enhance the natural topography of the site to focus attention on the crash site as the actual memorial. The agency would also develop a visitor center to explain the story of Flight 93 and the events of September 11, 2001. Site development would also include infrastructure, access roads, and visitor parking areas.

The Environmental Impact Statement assesses the potential environmental impacts of implementing the alternatives. To support the plan, the National Park Service prepared a cultural landscape inventory and reports on transportation, geotechnical conditions, visitor and economic projections, natural resources, hazardous materials, and visual resources. The National Park Service conducted public scoping of the alternatives, including consultations with local, state, and federal agencies.

After public review of the Draft GMP/EIS, the National Park Service will consider comments, and a Final GMP/EIS, followed by a Record of Decision, will be prepared. The Final GMP/EIS is scheduled for completion in 2006.

Dated: May 11, 2006.
Linda Canzanelli,
Regional Director, Northeast Region, National Park Service.

[FR Doc. 06-5485 Filed 6-15-06; 8:45 am]

BILLING CODE 4312-25-M